DEPARTMENT OF THE TREASURY

Internal Revenue Service

Quarterly Publication of Individuals, Who Have Chosen To Expatriate, as Required by Section 6039G

AGENCY: Internal Revenue Service (IRS), Treasury.

ACTION: Notice

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2001.

Last name | First name | Middle name
Achini | Christoph | Clarence.
Adamson | Vincent | Roy.
Adda | Gavin | Jacques Elie.
Alfoldi | Claudia | Wilma.
Allard | Emogan
Ankeny | Eugene | Elliot.
Arnold | Wade
Baerz (Kaser) | Helga | Paula.
Balayan | Aram | Walter.
Barbey | Lila
Barry IV | Richard | Francis.
Battig | Marie
Becsey | Lorand | Steven.
Beguin-Austin | Margaret
Bekkelund | Elin
Benz | Hanspeter
Beswick | Anthony | J.
Bigos | Hannelore | Luzia.
Bohn-Klingerhoeller | Monique | Rita.
Bollinger | Heidi
Brandt Jr | Berkeley
Braun | Evelyn | Susan Kern.
Brown Tarin | Silvestre | Gustavo.
Browne | Chedmond | Ralford Ian.
Callahan | Brain | Tobey.
Callahan | Mikell | Kathryn.
Carter | Shannon | Renee.
Cha | Laura | May Lung.
Chambers | Russell | C.
Chan | Grace | Ling.
Clements | Janice | Ablerta.
Coleman | Harriet | Suzanne.
Cota Moreno | Federico
Dahl | Eleanor | Alice.
Dansereau | Blanche
DeSelliers DeMoran | Virginie.
De Tymoeski | Jean-Paul
De Tymowski | Paulette Andree.
Del Solar | Carlos
Demarsico | Michelle
Dennig | Gerald | Froemke.
Diaz | Arjuna
Draper | Lois | Ellen.
Draper | Richard | Paul.
Eaton-Clarke | Naomi
Eckert | Jan | Grafton.
El Yassir | Saado | Mahmoud.
Elliott | Takayo | Narazaki
Esteve Jr | Joachim | Jose
Estrada | Teresita | de Jesus Peru.
Everard | Marcus
Fall | Delmar | Alexandra.
Farfan | Mirna | D.
Fatzer | Philippe | Marc.
Faulkner | Sheryl | Anne.
Feezell | Michael | Lee.
Feldmann | Anick
Fernandez Almada | Luis | Simeon.
Fisher | David
Fleig | Randall | Stephen.
Frei | Katharina | Barbara.
Furman | Emily | Hanna.
Gaitan-Palacios | Gladys
Gandy | Mary
Garnett | Clark | Gordon.
Gaum | Kurt | Rudolf.
George | David | Charles.
Gillery | Scott | Murray.
Gottschalk | Carl
Grauke | Michael | Joey.
Grauke | Jutta | Christina.
Green | Alan
Green | Alexandra | Ellen.
Grond | Adrian | Stuart
Guillen | Mike | Mario.
Harley | Olivia | Millicent.
Harris | Haruko
Havardstun | Rachel | Renee.
Heinze | Wendy
Hill | Colin
Hilscher | Kurt | Frederick.
Hite | Shere
Hoffenberg | Jennings
Honjo | Masahiro
Houry | Nada | M
Hsu | Kenneth | Jinghwa.
Hu | Wendell | K.
Hudson | Fraklin | N.
Huebner | Anthony
Isler | Mark | C.
Isler | Jacques | Armand Rudolf.
Janson | Nicolas | Xavier.
Janson | Perrine | Anne.
Jensen | Peter | Albert.
Jolles | Alexander | Pau.
Josselson | Diana
Kaegi | Kathrin | Suzanne.
Keiser | Emma
Ketterer | Edward
King | James | Nicholas.
Kohn | Sandra | Mirriam.
Kooger | Howard | Jan.
Krasner | Alexander
Kronau | Sandra | Patricia.
Kuprecht | Andrea | Caroline.
Kwok | Peter | Viem.
Ladd | Karen
Lambelet | John | C.
Langlois | Patrick
Laukhardt | Helma | Katharina.
Lee | Siew | Lian.
Lergessner (Gillery) | Jennifer | Lynn.
Leuthold | Kristian | Oliver.
Levine | Abbey | Barbara.
Lezama | Daniel | Alberto.
Li | Ming | Lun.
Li | Shinyi | Alice.
Liem | Kathleen | C.
Lind | Gary
Lo | Fu-Chen
Lo | Benjamin | Man-Chuen.
Loh | Walter
Loughlin | John | Joseph.
MacLeod | Laila
Manzano | Irma | Patricia.
Mattille | Patricia | Stella Lela.
Mc Adam | Agnes | Wray.
Mc Dermott | Terance | Stephen.
McVie | Anne | Christine.
Meisterhans | Tatiana | Christina.
Meyer | Daina | Brigitte.
Miescher | Nicole | Karen.
Mikton | Barbara | Kaethy.
Miller | Marie-Louise
Mobius | Joseph | Benhard Mark.
Mortimer | Lois | Helen Jean.
Murphy | James | Schofield.
Nam (Cruz) | Hae | Suk.
Narlock de Madiedo | Susan | Marie.
Narlock de Madiedo | Susan | Marie.
Neiman | Dorothy | Edna.
Ng | Shelly
Noon | Ruxana
Nordin | Brit-Inger
Ojjeh | Kathleen | Marie.
Okawara | Kiyomi
Okawara | Shige-Hisa
Ong | Freda | Yen Leng.
Ottman | Richard | Walter.
Owen | Philip
Paglieri | Diego
Pardo De Leygonier | Daine | Carmela.
Pardo de Leygonier | Christiane | Helen.
Peabody | Terrence | Elmore.
Pereyra | Laura | Estela.
Peterson | Thomas | Emery.
Phillips | Helen | Marie.
Pluer | Margrit | F.
Poedjosoedarmo | Gloria | Risser.
Prashker | Joseph | N.
Price | Debra | Gail.
Pua | My | Linh Nguyen.
Randall | Gabriella | Maria.
Rarey | Daniel | John.
Ratte | Robin
Raudales | Marco | Antonio.
Roberts | Linda | R.
Robinson | Patricia | Juanita.
Rountree | Patrick | Robert.
Rudolph | Michael | Urs.
Said | Dalia
Sapp | Leander | John Rene.
Sauvageot | Liselotte | Marie.
Sauvageot | Gerard | Albert.
Sawyer | Melvyn | Lloyd.
Scheele | Irmela | Mariette.
Schein | Eva | Elisabeth.
Schmid | Peter | Hans.
Schoch | Lorenz | Robert.
Scotoni | Ralph | Tertius.
Seltzer | Michael | Rogers.
Shank Jr | James | Martin.
Shin | Young | Mi.
Shuang | Linn | Chun.
Sicre | Penn | Lussier.
Sigg | Wilma
Sim | Richard | Guild.
Smith-Vaughan | Arthur | Henry.
So | Madeleine | Jane Adamos.
Sommerfeld | Ligia
Sommerfeld | Norberto
Sonrier | Jill | Renee.
Soon | Benjamin | Teng Tze.
Spindler | Annelore
Spindler | Manfred
Stearns Hermann | Dorothee | E.
Stewart | Calvin | Mark.
Stewart | Karless | Nels.
Stokes | Virgil | Pierce.
Streit | Ernst | Ehrenfried.
Stronks | Terry | Richard.
Szegedi | Irmgard | Melinda.
Tatlow | Harry | Lloyd.
Thorbecke | Andreas | Heinrich.
Timmons | Philip | Ray.
Tolstoy | Paul
Toraason | John | Duxbury.
Tschudin | Marie-France
Ulehla | Ladislav
Valfells | Jon
Vazquez | Ma. Victori | Madrigal.
Vernhes-Rappaz | Sonia | Martine.
Von Susani | Odorico | Nikolaus.
Vourecas-Petalas | Isabella
Wadsworth | George
Waibel | Stephanie
Walsh | Frances
Wang | Soo | Yun
West | Charlotte
White | Peter | Benjamin.
Wilmanns | Johan
Winther | Boy | Johannes Ferdinand.
Work | William | Randall.
Wu | Michael | Wei-Kuo.
Yau | David | Tak Cheung.

Dated: April 12, 2001.
Doug Rogers,
Compliance Area 15, Small Business/Self-Employed, Territory 3 (Support).

[FR Doc. 01-23718 Filed 9-21-01; 8:45 am]

BILLING CODE 4830-01-P